DEPARTMENT OF ENERGY

Federal Energy Regulatory Commission

Combined Notice of Filings

May 19, 2009.

Take notice that the Commission has received the following Natural Gas Pipeline Rate and Refund Report filings:

Docket Numbers: RP09-589-000.

Applicants: Midcontinent Express Pipeline LLC.

Description: Midcontinent Express Pipeline, LLC submits two amendments to existing negotiated rate Transportation Rate Schedule FTS Agreement with Enjet, Inc.

Filed Date: 05/14/2009.

Accession Number: 20090514-0127.

Comment Date: 5 p.m. Eastern Time on Tuesday, May 26, 2009.

Docket Numbers: RP09-590-000.

Applicants: Southeast Supply Header, LLC.

Description: Southeast Supply Header, LLC submits First Revised Sheet 345 to its FERC Gas Tariff, Original Volume 1, to be effective 6/15/09.

Filed Date: 05/15/2009.

Accession Number: 20090518-0111.

Comment Date: 5 p.m. Eastern Time on Wednesday, May 27, 2009.

Docket Numbers: RP09-591-000.

Applicants: Texas Eastern Transmission LP.

Description: Texas Eastern Transmission, LP submits Second Revised Sheet 515 and 633 to its FERC Gas Tariff, Seventh Revised Volume 1, to be effective 6/15/09.

Filed Date: 05/15/2009.

Accession Number: 20090518-0110.

Comment Date: 5 p.m. Eastern Time on Wednesday, May 27, 2009.

Docket Numbers: RP09-592-000.

Applicants: Questar Southern Trails Pipeline Company.

Description: Questar Southern Trails Pipeline Company submits First Revised Sheets 67 & 68 et al to its FERC Gas Tariff, Original Volume 1, to be effective 6/15/09.

Filed Date: 05/15/2009.

Accession Number: 20090518-0109.

Comment Date: 5 p.m. Eastern Time on Wednesday, May 27, 2009.

Docket Numbers: RP09-593-000.

Applicants: Questar Overthrust Pipeline Company.

Description: Questar Overthrust Pipeline Company submits First Revised Sheets 70-71 et al to its FERC Gas Tariff, Second Revised Volume 1-A, to be effective 6/15/09.

Filed Date: 05/15/2009.

Accession Number: 20090518-0108.

Comment Date: 5 p.m. Eastern Time on Wednesday, May 27, 2009.

Docket Numbers: RP09-594-000.

Applicants: Gulfstream Natural Gas System, L.L.C.

Description: Gulfstream Natural Gas System, LLC submits Second Revised Sheet 0 et al to its FERC Gas Tariff, Original Volume 1, to be effective 6/15/09.

Filed Date: 05/15/2009.

Accession Number: 20090518-0119.

Comment Date: 5 p.m. Eastern Time on Wednesday, May 27, 2009.

Docket Numbers: RP09-595-000.

Applicants: East Tennessee Natural Gas, LLC.

Description: East Tennessee Natural Gas, LLC submits Second Revised Sheet 316 et al to its FERC Gas Tariff, Third Revised Volume 1, to be effective 6/15/09.

Filed Date: 05/15/2009.

Accession Number: 20090518-0118.

Comment Date: 5 p.m. Eastern Time on Wednesday, May 27, 2009.

Docket Numbers: RP09-596-000.

Applicants: Egan Hub Storage, LLC.

Description: Egan Hub Storage, LLC submits Third Revised Sheet 107 et al to its FERC Gas Tariff, First Revised Volume 1, to be effective 6/15/09.

Filed Date: 05/15/2009.

Accession Number: 20090518-0117.

Comment Date: 5 p.m. Eastern Time on Wednesday, May 27, 2009.

Docket Numbers: RP09-597-000.

Applicants: Saltville Gas Storage Company L.L.C.

Description: Saltville Gas Storage Company, LLC submits Third Revised Sheet 108 & 147 to its FERC Gas Tariff, Original Volume 1, to be effective 6/15/09.

Filed Date: 05/15/2009.

Accession Number: 20090518-0116.

Comment Date: 5 p.m. Eastern Time on Wednesday, May 27, 2009.

Docket Numbers: RP09-598-000.

Applicants: Steckman Ridge, LP.

Description: Steckman Ridge, LP submits First Revised Sheet 279 to its FERC Gas Tariff, Original Volume 1, to be effective 6/15/09.

Filed Date: 05/15/2009.

Accession Number: 20090518-0115.

Comment Date: 5 p.m. Eastern Time on Wednesday, May 27, 2009.

Docket Numbers: RP09-599-000.

Applicants: Maritimes & Northeast Pipeline, L.L.C.

Description: Maritimes & Northeast Pipeline, LLC submits Fourth Revised Sheet 301 to its FERC Gas Tariff, First Revised Volume 1, to be effective 6/15/09.

Filed Date: 05/15/2009.

Accession Number: 20090518-0114.

Comment Date: 5 p.m. Eastern Time on Wednesday, May 27, 2009.

Docket Numbers: RP09-600-000.

Applicants: Algonquin Gas Transmission Company.

Description: Algonquin Gas Transmission, LLC submits Second Revised Sheet 517 et al to its FERC Gas Tariff, Fifth Revised Volume 1, to be effective 6/15/09.

Filed Date: 05/15/2009.

Accession Number: 20090518-0113.

Comment Date: 5 p.m. Eastern Time on Wednesday, May 27, 2009.

Docket Numbers: RP09-601-000.

Applicants: El Paso Natural Gas Company.

Description: El Paso Natural Gas Company submits Eleventh Revised Sheet No 290A et al to FERC Gas Tariff, Second Revised Volume No 1A.

Filed Date: 05/18/2009.

Accession Number: 20090518-0321.

Comment Date: 5 p.m. Eastern Time on Monday, June 01, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-12738 Filed 6-1-09; 8:45 am]

BILLING CODE 6717-01-P